FEDERAL COMMUNICATIONS COMMISSION

47 CFR Part 73

[DA 03-2909; MB Docket No. 03-153, RM-10727; MB Docket No. 03-154, RM-10736]

Radio Broadcasting Services; Bangs, Texas and De Beque, Colorado

AGENCY: Federal Communications Commission.

ACTION: Final rule.

SUMMARY: The Audio Division, at the request of Charles Crawford, allots Channel 250C3 at Bangs, Texas, as the community's first local aural transmission service. See 68 FR 42663, July 18, 2003. Channel 250C3 can be allotted to Bangs in compliance with the Commission's minimum distance separation requirements with a site restriction of 11.9 kilometers (7.4 miles) west to avoid a short-spacing to the license sites of Station KATX, Channel 249A, Eastland, Texas and Station KBFB, Channel 250C, Dallas, Texas. The reference coordinates for Channel 250C3 at Bangs are 31-41-32 North Latitude and 99-15-17 West Longitude. Although concurrence has been requested for Channel 250C3 at Bangs, notification has not been received. If a construction permit is granted prior to the receipt of formal concurrence in the allotment by the Mexican government, the construction permit will include the following condition: “Use of this allotment is subject to suspension, modification, or termination without right to hearing, if found by the Commission to be necessary in order to conform to the 1992 USA-Mexico FM Broadcast Agreement or if specifically objected to by Mexico's Secretaria de Comunicaciones Y Transportes.” The Audio Division, at the request of Garfield-Mesa County Line Broadcasters, allots Channel 275C3 at De Beque, Colorado, as the community's first local aural transmission service. See 68 FR 42663, July 18, 2003. Channel 275C3 can be allotted to De Beque in compliance with the Commission's minimum distance separation requirements, provided there is a site restriction of 7.1 kilometers (4.4 miles) northwest to avoid a short-spacing to the license site of Station KPRU, Channel 277C2, Delta, Colorado. The reference coordinates for Channel 275C3 at De Beque are 39-22-36 North Latitude and 108-16-33 West Longitude. Filing windows for Channel 250C3 at Bangs, Texas and Channel 275C3 at De Beque, Colorado will not be opened at this time. Instead, the issue of opening a filing window for these channels will be addressed by the Commission in a subsequent order.

DATES: Effective November 17, 2003.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket Nos. 03-153 and 03-154, adopted October 1, 2003, and released October 3, 2003. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Colorado, is amended by adding De Beque, Channel 275C3.

3. Section 73.202(b), the Table of FM Allotments under Texas, is amended by adding Bangs, Channel 250C3.

Federal Communications Commission.
John A. Karousos,
Assistant Chief, Audio Division, Media Bureau.

[FR Doc. 03-26503 Filed 10-20-03; 8:45 am]

BILLING CODE 6712-01-P